DEPARTMENT OF JUSTICE

Drug Enforcement Administration

21 CFR Part 1308

[Docket No. DEA-246F]

Schedules of Controlled Substances: Extension of Temporary Placement of N-Benzylpiperazine (BZP), 1-(3-Trifluoromethylphenyl)piperazine (TFMPP) and 2,5-Dimethoxy-4-(n)-propylthiophenethylamine (2C-T-7) in Schedule I of the Controlled Substances Act

AGENCY: Drug Enforcement Administration (DEA), Justice.

ACTION: Final rule.

SUMMARY: This final rule is issued by the Administrator of the Drug Enforcement Administration (DEA) to extend the temporary scheduling of N-benzylpiperazine (BZP), 1-(3-trifluoromethylphenyl) piperazine (TFMPP) and 2,5-dimethoxy-4-(n)-propylthiophenethylamine (2C-T-7) in Schedule I of the Controlled Substances Act (CSA). The temporary scheduling of BZP, TFMPP and 2C-T-7 is due to expire on September 19, 2003. This document will extend the temporary scheduling of BZP, TFMPP and 2C-T-7 to March 19, 2004 or until rulemaking proceedings are completed, whichever occurs first.

EFFECTIVE DATES: September 10, 2003.

FOR FURTHER INFORMATION CONTACT: Frank Sapienza, Drug and Chemical Evaluation Section, Office of Diversion Control, Drug Enforcement Administration, Washington, DC 20537, Telephone: (202) 307-7183.

SUPPLEMENTARY INFORMATION: On September 20, 2002, the Deputy Administrator of the DEA published two separate final rules in the Federal Register (67 FR 59161 and 67 FR 59163) amending §1308.11(g) of title 21 of the Code of Federal Regulations to temporarily place BZP, TFMPP and 2C-T-7 into Schedule I of the CSA pursuant to the temporary scheduling provisions of 21 U.S.C. 811(h). These final rules, which became effective on the date of publication, were based on findings by the Deputy Administrator that the temporary scheduling of BZP, TFMPP and 2C-T-7 was necessary to avoid an imminent hazard to the public safety. Section 201(h)(2) of the CSA (21 U.S.C. 811(h)(2)) requires that the temporary scheduling of a substance expire at the end of one year from the date of issuance of the order. However, during the pendency of proceedings under 21 U.S.C. 811(a)(1) with respect to the substance, temporary scheduling of that substance may be extended for up to six months. Proceedings for the scheduling of a substance under 21 U.S.C. 811(a) may be initiated by the Attorney General (delegated to the Administrator of the DEA pursuant to 28 CFR 0.100) on his own motion, at the request of the Secretary of Health and Human Services, or on the petition of any interested party. Such proceedings regarding BZP, TFMPP and 2C-T-7 have been initiated by the Administrator of the DEA.

The DEA has gathered and reviewed the available information regarding the pharmacology, chemistry, trafficking, actual abuse, pattern of abuse and the relative potential for abuse for BZP, TFMPP and 2C-T-7. The Administrator has submitted these data to the Assistant Secretary for Health, Department of Health and Human Services. In accordance with 21 U.S.C. 811(b), the Administrator has also requested a scientific and medical evaluation and a scheduling recommendation for BZP, TFMPP and 2C-T-7 from the Assistant Secretary for Health. Therefore, the temporary scheduling of BZP, TFMPP and 2C-T-7 which is due to expire on September 19, 2003, may be extended until March 19, 2004, or until proceedings initiated in accordance with 21 U.S.C. 811(a) are completed, whichever occurs first.

Pursuant to U.S.C. 811(h)(2) the Administrator hereby orders that the temporary scheduling of BZP, TFMPP and 2C-T-7 be extended until March 19, 2004, or until the proceedings initiated in accordance with 21 U.S.C. 811(a) are completed, whichever occurs first.

The Administrator of the DEA hereby certifies that extension of the temporary placement of BZP, TFMPP and 2C-T-7 in Schedule I of the CSA will have no significant impact upon entities whose interests must be considered under the Regulatory Flexibility Act, 5 U.S.C. 601 et seq. This action involves the extension of temporary control of substances with no currently accepted medical use in the United States.

The six-month extension of BZP, TFMPP, and 2C-T-7 in Schedule I of the CSA is not a significant regulatory action for the purposes of Executive Order (E.O.) 12866 of September 30, 1993. Drug scheduling matters are not subject to review by the Office of Management and Budget (OMB) pursuant to the provisions of E.O. 12866, section 3(d)(1). This action responds to an emergency situation posing an imminent hazard to the public safety and is essential to the criminal law enforcement function of the United States.

This action has been analyzed in accordance with the principles and criteria in Executive Order 13132, and it has been determined that this final rule does not have sufficient federalism implications to warrant the preparation of a Federalism Assessment.

Dated: September 2, 2003.
Karen P. Tandy,
Administrator.

[FR Doc. 03-22964 Filed 9-9-03; 8:45 am]

BILLING CODE 4410-09-P